DEPARTMENT OF COMMERCE

Foreign-Trade Zones Board

[S-134-2016]

Approval of Subzone Status, Jos. A. Bank Manufacturing Company, Hampstead and Eldersburg, Maryland

On October 13, 2016, the Executive Secretary of the Foreign-Trade Zones (FTZ) Board docketed an application submitted by the Maryland Aviation Administration, on behalf of the Maryland Department of Transportation, grantee of FTZ 73, requesting subzone status subject to the existing activation limit of FTZ 73, on behalf of Jos. A. Bank Manufacturing Company in Hampstead and Eldersburg, Maryland.

The application was processed in accordance with the FTZ Act and Regulations, including notice in the Federal Register inviting public comment (81 FR 72037-72038, October 19, 2016). The FTZ staff examiner reviewed the application and determined that it meets the criteria for approval. Pursuant to the authority delegated to the FTZ Board Executive Secretary (15 CFR Sec. 400.36(f)), the application to establish Subzone 73D is approved, subject to the FTZ Act and the Board's regulations, including Section 400.13, and further subject to FTZ 73's 67-acre activation limit.

Dated: January 4, 2017.
Andrew McGilvray,
Executive Secretary.

[FR Doc. 2017-00303 Filed 1-9-17; 8:45 am]

BILLING CODE 3510-DS-P